DEPARTMENT OF THE INTERIOR

Bureau of Land Management

[CO-140-08-1610-DP]

Notice of Public Meeting, Northwest Colorado Resource Advisory Council Subcommittees for the Kremmling Resource Management Plan Revision

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Northwest Colorado Resource Advisory Council (RAC) Subcommittee on the Kremmling Field Office Management Plan (RMP) Revision will meet as indicated below.

DATES: January 17 and 29, 2008; from 5 p.m. to 8 p.m.

ADDRESSES: The Kremmling RMP Subcommittee will meet at the Kremmling Chamber of Commerce, 203 Park Avenue, Kremmling, CO.

FOR FURTHER INFORMATION CONTACT: Joe Stout, Planning and Environmental Coordinator, telephone 970-724-3003.

SUPPLEMENTARY INFORMATION: The Northwest Colorado RAC advises the Secretary of the Interior, through the Bureau of Land Management, on a variety of public land issues in northwestern Colorado. A subcommittee has been formed under this RAC to advise it regarding the Kremmling RMP Revision. The individuals on this subcommittee represent a broad range of interests and have specific knowledge of the Field Offices. Recommendations developed by these subcommittees will be presented formally for discussion to the NW RAC at publicly announced meetings of the full NW RAC. Both the subcommittee meetings and the full NW RAC meetings have public comment opportunities.

Steve Bennett,
Acting Glenwood Springs Field Manager, Lead Designated Federal Officer for the Northwest Colorado RAC.

[FR Doc. E8-61 Filed 1-7-08; 8:45 am]

BILLING CODE 4310-84-P